DEPARTMENT OF COMMERCE

International Trade Administration

[A-823-815]

Certain Oil Country Tubular Goods From Ukraine: Amended Final Determination of Sales at Less Than Fair Value

AGENCY: Enforcement and Compliance, International Trade Administration, Department of Commerce.

SUMMARY: The Department of Commerce (the Department) is amending the final determination of sales at less than fair value in the antidumping duty investigation of certain oil country tubular goods (OCTG) from Ukraine covering the period of investigation (POI) July 1, 2012, through June 30, 2013. For information on the amended weighted-average dumping margins, see the “Amended Final Determination” section of this notice.

DATES: Effective Date: September 3, 2014.

FOR FURTHER INFORMATION CONTACT: David Lindgren, AD/CVD Operations, Office VII, Enforcement and Compliance, International Trade Administration, U.S. Department of Commerce, 14th Street and Constitution Avenue NW., Washington, DC 20230; telephone: (202) 482-3870.

SUPPLEMENTARY INFORMATION:

Background

On July 18, 2014, the Department published in the Federal Register its final determination in this investigation.¹ Prior to that, on July 14, 2014, the Department disclosed to interested parties its calculations for the final determination in accordance with 19 CFR 351.224(b). Subsequently, on July 21, 2014, United States Steel Corporation, a petitioner in the investigation, filed a timely allegation that the Department committed a ministerial error related to certain U.S. sales made by Interpipe Europe S.A.; Interpipe Ukraine LLC; PJSC Interpipe Niznedneprovsky Tube Rolling Plant (aka Interpipe NTRP); LLC Interpipe Niko Tube; and, North American Interpipe Inc. (collectively, Interpipe) during the POI.² No additional allegations or comments were filed by any other interested party.

¹ See Certain Oil Country Tubular Goods From Ukraine: Final Determination of Sales at Less Than Fair Value and Final Negative Determination of Critical Circumstances, 79 FR 41969 (July 18, 2014) (Final Determination).

² See Letter to the Department from United States Steel Corporation regarding “Oil Country Tubular Goods from Ukraine,” dated July 21, 2014 (Ministerial Error Allegation).

As noted in the Final Determination, on July 10, 2014, the Department signed a suspension agreement with Interpipe.³ The Department continued and completed this investigation pursuant to the requests for continuation in accordance with section 734(g) of the Tariff Act of 1930, as amended (the Act).⁴

³ See Final Determination, 79 FR at 41970; see also Suspension of Antidumping Investigation: Certain Oil Country Tubular Goods From Ukraine, 79 FR 41959 (July 18, 2014) (Suspension Agreement).

⁴ Id.

Scope of the Investigation

The merchandise covered by the investigation is certain OCTG, which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock. For a complete description of the scope of the investigation, see the Appendix to this notice.

Ministerial Error

The Department's regulations at 19 CFR 351.224(f) defines a “ministerial error” as an error “in addition, subtraction, or other arithmetic function, clerical error resulting from inaccurate copying, duplication, or the like, and any other similar type of unintentional error which the Secretary considers ministerial.” ⁵ After analyzing the ministerial error allegation, we determine, in accordance with section 735(e) of the Act and 19 CFR 351.224(e), that a ministerial error was made in the Final Determination. For a detailed discussion of this ministerial error, see the Ministerial Error Memorandum.⁶ The amended final weighted-average dumping margins are listed in the “Amended Final Determination” section below.

⁵ See also section 735(e) of the Act.

⁶ Memorandum To Ronald K. Lorentzen, Acting Assistant Secretary for Enforcement and Compliance, Through Christian Marsh, Deputy Assistant Secretary for Antidumping and Countervailing Duty Operations, From Edward C. Yang, Director, Office VII, Antidumping and Countervailing Duty Operations: “Amended Final Affirmative Determination in the Less Than Fair Value Investigation of Certain Oil Country Tubular Goods from Ukraine: Ministerial Error Allegation,” dated August 12, 2014 (Ministerial Error Memorandum).

Amended Final Determination

In accordance with 19 CFR 351.224(e), we are amending the final affirmative determination of sales at less than fair value by revising the weight-averaged dumping margin calculated for Interpipe. Furthermore, because the all-others rate was derived entirely from Interpipe's margin,⁷ we also are amending the “all-others” rate.

⁷ See Final Determination, 79 FR at 41970.

We determine the revised weighted-average dumping margins are as follows:

Exporter or producer | Weighted-average dumping margin (percent)
Interpipe Europe S.A.; Interpipe Ukraine LLC; PJSC Interpipe Niznedneprovsky Tube Rolling Plant (aka Interpipe NTRP); LLC Interpipe Niko Tube | 7.47
All-Others | 7.47

Terminated Suspension of Liquidation

In light of the Suspension Agreement, in accordance with section 734(f)(2)(A) of the Act, we terminated the suspension of liquidation of entries of OCTG from Ukraine and stated that any cash deposits for such entries posted pursuant to section 733(d)(1)(B) of the Act shall be refunded.⁸ The suspension of liquidation remains terminated in accordance with section 734(f)(2)(A) of the Act notwithstanding these amended final results.

⁸ Id., 79 FR at 41959, 41960.

International Trade Commission Notification

In accordance with section 735(d) of the Act, we have notified the International Trade Commission of our amended final determination.

We are issuing and publishing this determination and notice pursuant to sections 735(d), 735(e), and 777(i) of the Act.

Dated: August 26, 2014.
Paul Piquado,
Assistant Secretary for Enforcement and Compliance.

Appendix—Scope of the Investigation

The merchandise covered by the investigation is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the investigation also covers OCTG coupling stock.

Excluded from the scope of the investigation are: Casing or tubing containing 10.5 percent or more by weight of chromium; drill pipe; unattached couplings; and unattached thread protectors.

The merchandise subject to the investigation is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the investigation may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the investigation is dispositive.

[FR Doc. 2014-20975 Filed 9-2-14; 8:45 am]

BILLING CODE 3510-DS-P